DEPARTMENT OF ENERGY

Federal Energy Regulatory Commission

[Docket Nos. ER15-1919-000; ER15-1919-001]

California Independent System Operator Corporation; Notice of Conference

Take notice that a staff-led conference will be convened in this proceeding commencing at 10 a.m. (EST) on Tuesday, August 11, 2015, at the offices of the Federal Energy Regulatory Commission, 888 First Street NE., Washington, DC 20426. The purpose of the conference is to further explore the questions raised in the concurrently issued deficiency letter in these proceedings, and the discussion at this informal conference will be limited to the issues raised in the deficiency letter.

Any party, as defined by 18 CFR 385.102(c), or any participant as defined by 18 CFR 385.102(b), is invited to attend. Persons wishing to become a party must move to intervene and receive intervenor status pursuant to the Commission's regulations (18 CFR 385.214).

This conference will not be webcasted or transcribed. However, an audio listen-only line will be provided. If you need a listen-only line, please email Sarah McKinley (Sarah.McKinley@ferc.gov) by 5:00 p.m. (EST) on Thursday, August 6, with your name, email, and phone number, in order to receive the call-in information the day before the conference. Please use the following text for the subject line, “ER15-1919 listen-only line registration.”

Commission conferences are accessible under section 508 of the Rehabilitation Act of 1973. For accessibility accommodations, please send an email to accessibility@ferc.gov or call toll free 1 (866) 208-3372 (voice) or (202) 208-1659 (TTY), or send a FAX to (202) 208-2106 with the required accommodations.

For additional information, please contact Laura Switzer at (202) 502-6231, laura.switzer@ferc.gov or Jennifer Shipley at (202) 502-6822, jennifer.shipley@ferc.gov.

Dated: July 30, 2015.
Kimberly D. Bose,
Secretary.

[FR Doc. 2015-19202 Filed 8-4-15; 8:45 am]

BILLING CODE 6717-01-P